DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow the proposed information collection project: “Needs Assessment of Primary Care Practice-Based Research Networks (PBRNs).” In accordance with the Paperwork Reduction Act of 1995, Public Law 104-13 (44 U.S.C. 3506(c)(2)(A)), AHRQ invites the public to comment on this proposed information collection.

The proposed information collection was previously published in the Federal Register on January 7, 2003 allowed 60 Days for public comment. No public comments were received. The purpose of this notice is to allow an additional 30 Days for public comment.

DATES: Comments on this notice must be received by April 7, 2003.

ADDRESSES: Written comments should be submitted to: Allison Eydt, Human Resources and Housing Branch, Office of Information and Regulatory Affairs, OMB: New Executive Office Building, Room 10235; Washington, DC 20503.

Comments submitted in response to this notice will be summarized and included in the request for OMB approval of the proposed information collection. All comments will become a matter of public record.

FOR FURTHER INFORMATION CONTACT: Cynthia D. McMichael, AHRQ Reports Clearance Officer, (301) 594-3132.

SUPPLEMENTARY INFORMATION:

Proposed Project

“Needs Assessment of Primary Care Practice-Based Research Networks (PBRNs)”

The project is being conducted in response to an AHRQ RFP entitled “Resource Center for Primary Care Practice-Based Research Networks (PBRNs)” (issued under Contract 290-02-0008). The Healthcare Research and Quality Act of 1999, amending section 911(b) of Title IX of the Public Health Service Act (42 U.S.C. 299 et seq.), states that Agency for Healthcare Research and Quality will “employ research strategies and mechanisms that will link research directly with clinical practice in geographically diverse locations * * * including provider-based research networks”.

In order to assist the Agency for Healthcare Research and Quality (AHRQ), in meeting this goal, the Agency created an RFP that specifically requires a resource center to “assess the specific needs, if any, of each PBRN awarded (by AHRQ)” by determining “the stage of development of networks funded under the PBRN initiatives [AHRQ RFA-HS-02-003] and the specific resource needs of each network.”

The PBRNs are groups of primary care practices working together with academic researchers to address community-based health care research questions and to translate research findings into practice to improve health care. AHRQ funded 36 PBRNs in September, 2002, as well as a Resource Center intended to provide technical assistance and support to the PBRNs in their efforts to design and implement research projects. It is expected that an additional 24 PBRNs will be funded in 2003. In the proposed activities the PBRN Resource Center will collect data directly from each PBRN and their affiliated practices. The collection is a needs assessment of each of the AHRQ funded PBRNs. The collection will identify how the Resource Center can best support these networks through the development and use of information technology, and by linking the PBRN's with appropriate technical experts.

The in-depth needs assessment of each PBRN will use written and web surveys and telephone interviews. Each need assessment will ascertain the current capabilities of an individual PBRN in several respects, including:

• the ability to design and implement appropriately rigorous and complex research plans, including their access to key resources such as validated instruments and competence conducting advanced data analysis;

• the technical capacity for conducting data management tasks such as aggregating research data across networks, developing data files, and warehousing data;

• the ability to use information technology to foster effective communication with affiliated practices and with other research networks;

• the ability to address HHS priorities such as research involving populations of diverse race or ethnicity, socioeconomic status, age, gender and geography as well as preparedness for bioterrorism and other emerging public health threats;

• the ability to engage the network's practicing clinicians and community representatives in the design, conduct and dissemination of research studies;

• the ability to design and implement data collection instruments in clinician settings;

• the mechanisms for supporting AHRQ's central goal of assuring new research findings are translated into everyday practice; and

• their capacity for long-term sustainability.

To obtain the necessary information, surveys and interviews will be conducted with PERN staff and staff members in each network's participating practices.

Method of Collection

Due to the relatively small number of organizations in the respondent universe of AHRQ funded PBRNs, and the expected diversity of needs, we will survey all of the AHRQ funded PBRNs (including those to be funded in 2003)>

The method of data collection for the needs assessments consists of web-based and paper-based surveys and telephone interviews. We expect to involve multiple individuals from each PBRN in the data collection, including the PBRN administrator, information technology personnel, and the PBRN's lead clinician as well as individuals with similar roles at the affiliated practice level.

All individuals or networks unable to complete the survey via the Web will be sent a paper-based survey to complete and return by mail. The Resource Center will data enter any surveys completed by hand so that these responses can be included in the analyses. Non-respondents will receive a telephone reminder and, if necessary, sent an additional survey.

Estimated Annual Respondent Burden

Data collection effort | Number of respondents | Estimated time per respondent in hours | Estimated total burden hours | Average hourly wage rate | Estimated annual cost
Needs assessment | 180 (maximum of three individuals from each of 60 PBRNs) | 1 | 180 | *40.26 | $7,246.80
Needs assessment | 720 (maximum of two individuals at member practices PBRNs)*** | 0.5 | 360 | **45.77 | 16,477.20
Total | 900 | 0.6 | 540
* Based on the means of the average wages for manager in medicine and health, physicians, and computer systems analyst/scientist, National Comprehension Survey: Occupational Wages in the United States, 2000, “U.S. Department of Labor, Bureau of Labor Statistics, September 2001.”
** Based on the mean of the average wages for manager in medicine and health and physicians, “National Compensation Survey: Occupational Wages in the United States 2000”, U.S. Department of Labor, Bureau of Labor Statistics, September 2001”.
*** This estimate assumes that variation exists in the number of member practices that comprise each PBRN. Consequently, we will survey two individuals (the lead clinician and the administrator) at each of three member practices in 20 PBRNs, in 20 PBRNs we survey two individuals at each of six member practices, and in 20 PBRNs we survey two individuals at each of nine member practices.

Estimated Annual Costs to the Federal Government

The total cost to the government for activities directly related to this collection is $432,451.000.

Request for Comments

In accordance with the above cited legislation, comments on the AHRQ information collection proposal are requested with regard to any of the following: (a) Whether the proposed collection of information is necessary for the proper performance of functions of the AHRQ, including whether the information will have practical utility; (b) the accuracy of the AHRQ's estimate of the burden (including hours and costs) of the proposed collection of information; (c) ways to enhance the quality, utility, and clarity of the information to be collected; and (d) ways to minimize the burden of the collection of information on respondents, including the use of automated collection techniques or other forms of information technology.

Comments submitted in response to this notice will be summarized and included in the request for OMB approval of the proposed information collection. All comments will become a matter of public record.

Dated: February 27, 2003.
Carolyn M. Clancy,
Director

[FR Doc. 03-5298 Filed 3-5-03; 8:45 am]

BILLING CODE 4160-90-M